ENVIRONMENTAL PROTECTION AGENCY

[FRL-6581-2]

Agency Information Collection Activities: Collection; Comment Request; State Clean Air Act Section 507 Program Cooperative Agreement Outreach Pilot Program Evaluation

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): State Clean Air Act Section 507 Program Cooperative Agreement Demonstration Outreach Pilot Program Evaluation, EPA ICR No. 1958.01. Before submitting the ICR to OMB for review and approval, EPA is soliciting comments on specific aspects of the proposed information collection as described below.

DATES: Comments must be submitted on or before June 19, 2000.

ADDRESSES: U.S. EPA Office of Policy and Reinvention, Office of the Small Business Ombudsman (2131), 1200 Pennsylvania Avenue, NW, Washington, DC 20460.

FOR FURTHER INFORMATION CONTACT: Karen V. Brown, at EPA, by telephone (202) 260-1390, via FAX on (202) 401-2302, by e-mail at brown.karen@epa.gov, or download off the Internet at http://www.epa.gov/icr and refer to EPA ICR No. 1958.01.

SUPPLEMENTARY INFORMATION: Affected entities: Entities potentially affected by this action are those in certain small business sectors.

Title: State Clean Air Act Section 507 Program Cooperative Agreement Demonstration Outreach Pilot Program Evaluation; EPA ICR No. 1958.01).

Abstract: The EPA Office of the Small Business Ombudsman was authorized and funded by the fiscal year 1999 VA/HUD & Independent Agencies Appropriations Act to award grants or cooperative agreements to “Strengthen State Small Business Ombudsman (SBO) and State Technical Assistance Programs (SBAP) Created Under Section 507 of The Clean Air Act Amendments (CAAA).” The ultimate objective of these awards is to make improvements and strengthen these programs. The Congress further emphasized the important role these programs can play in promoting small business compliance with emission limitations set under State Implementation Plans to attain National Ambient Air Quality Standards. Under the Congressional mandate EPA must report on “the grants (cooperative agreements), their use and effectiveness,” and also provide Congress with an estimate of emission reductions achieved by these projects more generally. Thus, through a competitive process, the ten State cooperative agreement awardees, are required to measure the results/impacts of their innovative developmental work and outreach efforts. In order to do this, some, but not all, awardees will need to solicit information from the small business community that voluntarily use these programs. This information will be confidential. This is a “generic” information collection request (ICR) to enable the 10 State SBO or SBAP Programs to collect information on the results/effectiveness of their projects so that the States and EPA can better understand which types of outreach were most effective. State SBOs/SBAPs and EPA are interested in judging the results of various measurement methods such as comment/response cards, on-site interviews, mailed/Internet-surveys/on-site question-naires, and telephone surveys.

An agency may not conduct or sponsor, and a person is not required to respond to, a collection of information unless it displays a currently valid OMB control number. The OMB control numbers for EPA's regulations are listed in 40 CFR part 9 and 48 CFR Chapter 15.

EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of future information to be collected; and

(iv) Minimize the burden of the collection of information on those who are to respond, including through the use of appropriate automated electronic, mechanical, or other technological collection techniques or other forms of information technology, e.g., permitting electronic submission of responses.

Burden Statement: There is not an annual reporting burden as a result of this ICR. Rather, it is a one-time reporting burden which may occur during various time phases and aspects of some of the 10 State SBO/SBAP outreach projects. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected: Respondents for the purpose of this ICR will mostly be small businesses like in the water heater and boiler manufacturing industry, reinforced plastics and boat manufacturing industry, gasoline dispensing sites an transport vehicles, auto repair and salvage yards, and a potential wide spectrum of other small business types depending upon who they come in contact with during the development and outreach effort. A broad rang of SIC codes could conceivably thus be covered such as: 01, 07, 20 22, 23, 27, 28, 34, 35, 26, 37, and 55. Also, one or more of the following State offices: environmental agency (SIC 9511), commerce or economic development department (9611), governor's office (9111), or ombudsman's office (9511). These departments are typically responsible for the conduct of the State SBO or SBAP.

Estimated Number of Respondents: 3,900.

Frequency of Response: sporadic—one time.

Estimated Total Hours of Burden: 4,200.

Total Cost Burden: $135,000.

Dated: April 12, 2000.
Karen V. Brown,
Small Business Ombudsman.

[FR Doc. 00-9661 Filed 4-17-00; 8:45 am]

BILLING CODE 6560-50-P